DEPARTMENT OF ENERGY

Federal Energy Regulatory Commission

[Project No. 12783-003]

Inglis Hydropower, LLC; Notice of Application Tendered for Filing With the Commission and Soliciting Additional Study Requests

August 4, 2009.

Take notice that the following hydroelectric application has been filed with the Commission and is available for public inspection.

a. Type of Application: Original Major License.

b. Project No.: P-12783-003.

c. Date filed: July 22, 2009.

d. Applicant: Inglis Hydropower, LLC.

e. Name of Project: Inglis Hydropower Project.

f. Location: The proposed project would be located at the existing Inglis Bypass Channel and Spillway on the Withlacoochee River, west of Lake Rousseau and the Inglis Dam, within the town of Inglis, Levy County, Florida. No federal lands would be occupied by the proposed project.

g. Filed Pursuant to: Federal Power Act 16 U.S.C. 791(a)-825(r).

h. Applicant Contacts: Mr. Dean Edwards, P.O. Box 1565, Dover, FL 33527, (813) 659-3014, (813) 966-4300, inglishydro@hotmail.com; Mr. Kevin Edwards, P.O. Box 143, Mayodan, NC 27027, (336) 589-6138, ph@piedmonthydropower.com.

i. FERC Contact: Jennifer Adams at (202) 502-8087, or via e-mail at jennifer.adams@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 20, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commi ssion's Web site (http://www.ferc.gov/docs-filing/ferconline.asp) under the “e-filing” link. For a simpler method of submitting text only comments, click on “Quick Comment.”

m. The application is not ready for environmental analysis at this time.

n. The proposed 2.0-megawatt (MW) Inglis Project would operate in a run-of-river mode by using flows released to maintain the surface elevation of Lake Rousseau at 27.5 feet mean sea level (msl). Flow releases are determined by the Southwest Florida Water Management District (WMD). The proposed powerhouse would be 60-foot-long by 80-foot-wide by 30-foot-high, and contain three vertical shaft turbines. The penstock would be 130 feet in length. The project would generate about 12.3 gigawatt hours (GWH) annually, which would be fed into the interconnected transmission system via an existing 3.4-mile-long, 12,470-kV transmission line.

o. A copy of the application is available for review at the Commission in the Public Reference Room, or may be viewed on the Commission's Web site at http://www.ferc.gov, using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Florida State Historic Preservation Officer (SHPO), as required by § 106, National Historic Preservation Act, and the regulations of the Advisory Council on Historic Preservation, 36 CFR, at § 800.4.

q. Procedural schedule: The application will be processed according to the following Hydro Licensing Schedule. Revisions to the schedule will be made as appropriate.

Issue Deficiency Letter: September 2009.

Issue Acceptance Notice and Letter: December 2009.

Issue Scoping Document 1 for comments: January 2010.

Request Additional Information: March 2010.

Issue Scoping Document 2: March 2010.

Notice of application is ready for environmental analysis: March 2010.

Notice of the availability of the EA: July 2010.

Nathaniel J. Davis, Sr.,
Deputy Secretary.

[FR Doc. E9-19137 Filed 8-10-09; 8:45 am]

BILLING CODE 6717-01-P